DEPARTMENT OF JUSTICE

Notice of Lodging of Proposed First Material Modification of Consent Decree Under the Clean Water Act

On November 15, 2024, the Department of Justice lodged a proposed first material modification to the Consent Decree with the United States District Court for the Western District of Washington in the lawsuit entitled United States and State of Washington v. City of Seattle, Civil Action No. 2:13-cv-00678-JCC.

The proposed modification revises provisions in a Consent Decree between the parties that was entered by the Court on July 3, 2013. The proposed modification would revise certain sewer control measures, design criteria, deadlines, and adaptive management procedures in the Consent Decree to address changed circumstances since the Decree was first entered, and would update and clarify a number of related provisions.

The publication of this notice opens a period for public comment on the modification. Comments should be addressed to the Assistant Attorney General, Environment and Natural Resources Division, and should refer to United States and State of Washington v. City of Seattle, D.J. Ref. No. 90-5-1-1-10066. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

Any comments submitted in writing may be filed by the United States in whole or in part on the public court docket without notice to the commenter.

During the public comment period, the modification may be examined and downloaded at this Justice Department website: https://www.justice.gov/enrd/consent-decrees. If you require assistance accessing the modification, you may request assistance by email or by mail to the addresses provided above for submitting comments.

Kathryn C. Macdonald,
Assistant Section Chief, Environmental Enforcement Section, Environment and Natural Resources Division.

[FR Doc. 2024-27172 Filed 11-20-24; 8:45 am]

BILLING CODE 4410-15-P